DEPARTMENT OF HOUSING AND URBAN DEVELOPMENT

[Docket No. FR-5168-D-06]

Revocation and Redelegation of Fair Housing Assistance Program Authority

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO under the Fair Housing Assistance Program with the exception of redelegation of authority to the FHEO Region Directors, as set forth in 24 CFR 115.101(b). The Assistant Secretary for FHEO redelegates the authority in 24 CFR 115.101(b) and other authority, as set forth in this notice, to the General Deputy Assistant Secretary.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: Through regulation (24 CFR 115.101(a)), the Secretary delegated the authority and responsibility for administering the Fair Housing Assistance Program, as provided in 24 CFR part 115, to the Assistant Secretary for FHEO. Also through regulation (24 CFR 115.101(b)), the Assistant Secretary for FHEO retained and redelegated this authority to each Director of a Fair Housing Enforcement Center (now FHEO Region Directors). In this notice, the Assistant Secretary for FHEO retains and redelegates this authority to the General Deputy Assistant Secretary for FHEO and clarifies the change in title from “Fair Housing Enforcement Center Directors,” in 24 CFR Part 115, and “FHEO Hub Directors” to “FHEO Region Directors.”

Section A. Authority Redelegated

The Assistant Secretary for FHEO retains and redelegates the authority and responsibility for administering the Fair Housing Assistance Program, as provided in 24 CFR part 115 subparts A, B and C, to the General Deputy Assistant Secretary for FHEO.

The General Deputy Assistant Secretary retains and redelegates the authority and responsibility for administering the Fair Housing Assistance Program, as provided in 24 CFR part 115 subparts A, B and C, with the exception of making final decisions concerning the granting and maintenance of substantial equivalency certification and interim certification in subpart B, to the Deputy Assistant Secretary for Enforcement and Programs and FHEO Region Directors.

Section B. Clarification

The redelegation of authority from the Assistant Secretary for FHEO to the Fair Housing Enforcement Center Directors, as set forth in 24 CFR 115.101(b) remains intact with the exception of the change in nomenclature from Fair Housing Enforcement Center Directors to FHEO Region Directors.

Section C. Authority Excepted

The authority redelegated in this notice does not include the authority to issue or waive regulations.

Section D. Authority To Further Redelegate

The General Deputy Assistant Secretary for FHEO may redelegate the authority provided in Section A of this notice. The Deputy Assistant Secretary for Enforcement and Programs and FHEO Region Directors may not redelegate the authority provided in Section A of this notice.

All prior redelegations of authority made within the Office of the Assistant Secretary for FHEO to administer the Fair Housing Assistance Program are revoked with the exception of the delegation of authority set forth in 24 CFR 115.101(b).

Authority: Section 7(d), Department of Housing and Urban Development Act (42 U.S.C. 3535(d)).

Dated: May 31, 2007.
Kim Kendrick,
Assistant Secretary for Fair Housing and Equal Opportunity.
Dated: May 31, 2007.
Cheryl Ziegler,
General Deputy Assistant Secretary.

Editorial Note: This document was received at the Office of the Federal Register on December 12, 2007.

[FR Doc. E7-24333 Filed 12-14-07; 8:45 am]

BILLING CODE 4210-67-P